FEDERAL COMMUNICATIONS COMMISSION

47 CFR Part 1

[Gen. Docket 86-285, FCC 00-286]

Schedule of Application Fees

AGENCY: Federal Communications Commission.

ACTION: Final rule.

SUMMARY: The Commission has amended its Schedule of Application Fees to adjust the fees for processing applications and other filings. Section 8(b) of the Commission Act requires the Commission to adjust its application fees every two years after October 1, 1991, to reflect the net change in the Consumer Price Index for all Urban Consumers (CPI-U). The increased fees reflect the net change in the CPI-U of 33 percent, calculated from December 1989 to October 1999.

DATES: Effective September 11, 2000.

FOR FURTHER INFORMATION CONTACT: Claudette E. Pride, Credit & Debt Management Group, Office of the Managing Director at (202) 418-1995.

SUPPLEMENTARY INFORMATION:

1. The Commission amends it Schedule of Application Fees, 47 CFR Part 1, §§ 1.1102 through 1.1107 to adjust the fees for processing applications and other filings. In addition, Sections 1.1108, 1.1110, 1.1111, 1.1113, 1.1114, 1.1115, 1.1117, 1.1118 and 1.1119 are amended to reflect administrative changes. Section 8(b) of the Communications Act, as amended, requires that the Commission review and adjust its application fees every two years after October 1, 1991 (47 U.S.C. 158(b)). The adjusted or increased fees reflect the net change in the Consumer Price Index for all Urban Consumers (CPU-U of 33 percent, calculated from December 1989 to October 1999. The adjustments made to the fee schedule comport with the statutory formula set forth in Section 8(b).

2. The Schedule of Application Fees, 47 CFR Sections 1.1102 through 1.1107 are adjusted, and Sections 1.1108, 1.1110, 1.1111, 1.1113, 1.1114, 1.1115, 1.1117, 1.1118, and 1.1119 are amended to reflect administrative changes as set forth below, effective on September 11, 2000.

List of Subjects in 47 CFR Part 1

Administrative Practice and Procedure.

Federal Communications Commission.
William F. Caton,
Deputy Secretary.

For the reasons discussed in the preamble, the Federal Communications Commission amends 47 CFR part 1 as follows:

PART 1—PRACTICE AND PROCEDURE

1. The authority citation for Part 1 continues to read as follows:

Authority: 47 U.S.C. 154, 303, 503(b)(5); 5 U.S.C. 552 and 21 U.S.C. 853a, unless otherwise noted.

2. Section 1.1102 is revised to read as follows:

§ 1.1102 Schedule of charges for applications and other filings in the wireless telecommunications services.

[Those services designated with an asterisk in the payment type code column have associated regulatory fees that must be paid at the same time the application fee is paid. Please refer to §1.1152 for the appropriate regulatory fee that must be paid for this service.]
Action | FCC Form No. | Fee amount | Payment type code | Address
1. Marine Coast:
a. New; Renewal | 503 & 159 | $95.00 | PBMR* | Federal Communications Commission, Wireless Bureau Applications, P.O. Box 358130, Pittsburgh, PA 15251-5130.
b. Modification; Public Coast CMRS; Non-Profit | 503 & 159 | 95.00 | PBMM | Federal Communications Commission, Wireless Bureau Applications, P.O. Box 358130, Pittsburgh, PA 15251-5130.
c. Assignment of Authorization | 503, 1046 & 159 | 95.00 | PBMM | Federal Communications Commission, Wireless Bureau Applications, P.O. Box 358130, Pittsburgh, PA 15251-5130.
d. Transfer of Control | 703 & 159 | 50.00 | PATM | Federal Communications Commission, Wireless Bureau Applications, P.O. Box 358130, Pittsburgh, PA 15251-5130.
e. Duplicate License | Corres & 159 | 50.00 | PADM | Federal Communications Commission, Wireless Bureau Applications, P.O. Box 358130, Pittsburgh, PA 15251-5130.
f. Special Temporary Authority | Corres & 159 | 135.00 | PCMM | Federal Communications Commission, Wireless Bureau Applications, P.O. Box 358130, Pittsburgh, PA 15251-5130.
g. Renewal | 452R & 159 | 95.00 | PBMR* | Federal Communications Commission, Wireless Bureau Applications, P.O. Box 358270, Pittsburgh, PA 15251-5270.
h. Renewal (Electronic Filing) | 900 & 159 | 95.00 | PBMR* | Federal Communications Commission, Wireless Bureau ELT, P.O. Box 358994, Pittsburgh, PA 15251-5994.
i. Renewal (Non-Profit; CMRS) | 452R & 159 | 95.00 | PBMM | Federal Communications Commission, Wireless Bureau Applications, P.O. Box 358270, Pittsburgh, PA 15251-5130.
j. Renewal (Electronic Filing) (Non-Profit; CMRS) | 900 & 159 | 95.00 | PBMM | Federal Communications Commission, Wireless Bureau ELT, P.O. Box 358994, Pittsburgh, PA 15251-5994.
k. Rule Waiver | Corres & 159 | 145.00 | PDWM | Federal Communications Commission, Wireless Bureau Applications, P.O. Box 358130, Pittsburgh, PA 15251-5130.
2. Aviation Ground:
a. New; Renewal | 406 & 159 | 95.00 | PBVR* | Federal Communications Commission, Wireless Bureau Applications, P.O. Box 358130, Pittsburgh, PA 15251-5130.
b. Modification; Nonprofit | 406 & 159 | 95.00 | PBVM | Federal Communications Commission, Wireless Bureau Applications, P.O. Box 358130, Pittsburgh, PA 15251-5130.
c. Assignment of Authorization | 406, 1046 & 159 | 95.00 | PBVM | Federal Communications Commission, Wireless Bureau Applications, P.O. Box 358130, Pittsburgh, PA 15251-5130.
d. Transfer of Control | 703 & 159 | 50.00 | PATM | Federal Communications Commission, Wireless Bureau Applications, P.O. Box 358130, Pittsburgh, PA 15251-5130.
e. Duplicate License | Corres & 159 | $50.00 | PADM | Federal Communications Commission, Wireless Bureau Applications, P.O. Box 358130, Pittsburgh, PA 15251-5130.
f. Special Temporary Authority | Corres & 159 | 135.00 | PCVM | Federal Communications Commission, Wireless Bureau Applications, P.O. Box 358130, Pittsburgh, PA 15251-5130.
g. Renewal | 452R & 159 | 95.00 | PBVR* | Federal Communications Commission, Wireless Bureau Applications, P.O. Box 358270, Pittsburgh, PA 15251-5270.
h. Renewal (Electronic Filing) | 900 & 159 | 95.00 | PBVR* | Federal Communications Commission, Wireless Bureau ELT, P.O. Box 358994, Pittsburgh, PA 15251-5994.
i. Renewal (Non-Profit) | 452R & 159 | 95.00 | PBVM | Federal Communications Commission, Wireless Bureau Applications, P.O. Box 358270, Pittsburgh, PA 15251-5130.
j. Renewal (Electronic Filing) (Non-Profit) | 900 & 159 | 95.00 | PBVM | Federal Communications Commission, Wireless Bureau ELT, P.O. Box 358994, Pittsburgh, PA 15251-5994.
k. Rule Waiver | Corres & 159 | 145.00 | PDWM | Federal Communications Commission, Wireless Bureau Applications, P.O. Box 358130, Pittsburgh, PA 15251-5130.
3. Ship:
a. New; Renewal | 506 & 159 | 50.00 | PASR* | Federal Communications Commission, Wireless Bureau Applications, P.O. Box 358130, Pittsburgh, PA 15251-5130.
b. Modification; Non-Profit | 506 & 159 | 50.00 | PASM | Federal Communications Commission, Wireless Bureau Applications, P.O. Box 358130, Pittsburgh, PA 15251-5130.
c. Duplicate License | Corres & 159 | 50.00 | PADM | Federal Communications Commission, Wireless Bureau Applications, P.O. Box 358130, Pittsburgh, PA 15251-5130.
d. Exemption from Ship Station Requirements | 820 & 159 | 145.00 | PDWM | Federal Communications Commission, Wireless Bureau Applications, P.O. Box 358130, Pittsburgh, PA 15251-5130.
e. Rule Waiver | Corres & 159 | 145.00 | PDWM | Federal Communications Commission, Wireless Bureau Applications, P.O. Box 358130, Pittsburgh, PA 15251-5130.
4. Aircraft:
a. New; Renew/Mod | 605 & 159 | 50.00 | PAAR* | Federal Communications Commission, Wireless Bureau Applications, P.O. Box 358130, Pittsburgh, PA 15251-5130.
b. New; Renew/Mod (Electronic Filing) | 605 & 159 | 50.00 | PAAR* | Federal Communications Commission, Wireless Bureau ELT, P.O. Box 358994, Pittsburgh, PA 15251-5994.
c. Modification; Non-Profit | 605 & 159 | 50.00 | PAAM | Federal Communications Commission, Wireless Bureau Applications, P.O. Box 358130, Pittsburgh, PA 15251-5130.
d. Modification; Non-Profit (Electronic Filing) | 605 & 159 | 50.00 | PAAM | Federal Communications Commission, Wireless Bureau ELT, P.O. Box 358994, Pittsburgh, PA 15251-5994.
e. Renewal | 605 & 159 | 50.00 | PAAR* | Federal Communications Commission, Wireless Bureau Applications, P.O. Box 358245, Pittsburgh, PA 15251-5245.
f. Renewal (Electronic Filing) | 605 & 159 | 50.00 | PAAR* | Federal Communications Commission, Wireless Bureau ELT, P.O. Box 358994, Pittsburgh, PA 15251-5994.
g. Renewal (Non-Profit) | 605 & 159 | 50.00 | PAAM | Federal Communications Commission, Wireless Bureau Applications, P.O. Box 358245, Pittsburgh, PA 15251-5245.
h. Renewal (Non-Profit) (Electronic Filing) | 605 & 159 | 50.00 | PAAM | Federal Communications Commission, Wireless Bureau ELT, P.O. Box 358994, Pittsburgh, PA 15251-5994.
i. Duplicate License | 605 & 159 | 50.00 | PADM | Federal Communications Commission, Wireless Bureau Applications, P.O. Box 358130, Pittsburgh, PA 15251-5130.
j. Duplicate License (Electronic Filing) | 605 & 159 | 50.00 | PADM | Federal Communications Commission, Wireless Bureau ELT, P.O. Box 358994, Pittsburgh, PA 15251-5994.
k. Rule Waiver | 605 & 159 | 145.00 | PDWM | Federal Communications Commission, Wireless Bureau Applications, P.O. Box 358130, Pittsburgh, PA 15251-5130.
l. Rule Waiver (Electronic Filing) | 605 & 159 | 145.00 | PDWM | Federal Communications Commission, Wireless Bureau ELT, P.O. Box 358994, Pittsburgh, PA 15251-5994.
5. Private Operational Fixed Microwave:
a. New; Renew/Mod | 601 & 159 | 210.00 | PEOR* | Federal Communications Commission, Wireless Bureau Applications, P.O. Box 358130, Pittsburgh, PA 15251-5130.
b. New; Renew/Mod (Electronic Filing) | 601 &159 | 210.00 | PEOR* | Federal Communications Commission, Wireless Bureau ELT, P.O. Box 358994, Pittsburgh, PA 15251-5994.
c. Modification; Consolidate Call Signs; Non-Profit | 601 & 159 | 210.00 | PEOM | Federal Communications Commission, Wireless Bureau Applications, P.O. Box 358130, Pittsburgh, PA 15251-5130.
d. Modification; Consolidate Call Signs; Non-Profit Electronic Filing | 601 & 159 | 210.00 | PEOM | Federal Communications Commission, Wireless Bureau ELT, P.O. Box 358994, Pittsburgh, PA 15251-5994.
e. Renewal | 601 & 159 | 210.00 | PEOR* | Federal Communications Commission, Wireless Bureau Applications, P.O. Box 358245, Pittsburgh, PA 15251-5245.
f. Renewal (Electronic Filing) | 601 & 159 | 210.00 | PEOR* | Federal Communications Commission, Wireless Bureau ELT, P.O. Box 358994, Pittsburgh, PA 15251-5994.
g. Renewal (Non-Profit) | 601 & 159 | 210.00 | PEOM | Federal Communications Commission, Wireless Bureau Applications, P.O. Box 358245, Pittsburgh, PA 15251-5245.
h. Renewal (Non-Profit) (Electronic Filing) | 601 & 159 | 210.00 | PEOM | Federal Communications Commission, Wireless Bureau ELT, P.O. Box 358994, Pittsburgh, PA 15251-5994.
i. Assignment | 603 & 159 | 210.00 | PEOM | Federal Communications Commission, Wireless Bureau Applications, P.O. Box 358130, Pittsburgh, PA 15251-5130.
j. Assignment (Electronic Filing) | 603 & 159 | 210.00 | PEOM | Federal Communications Commission, Wireless Bureau ELT, P.O. Box 358994, Pittsburgh, PA 15251-5994.
k. Transfer of Control | 603 & 159 | 50.00 | PATM | Federal Communications Commission, Wireless Bureau Applications, P.O. Box 358130, Pittsburgh, PA 15251-5130.
l. Transfer of Control (Electronic Filing) | 603 & 159 | 50.00 | PATM | Federal Communications Commission, Wireless Bureau ELT, P.O. Box 358994, Pittsburgh, PA 15251-5994.
m. Duplicate License | 601 & 159 | 50.00 | PADM | Federal Communications Commission, Wireless Bureau Applications, P.O. Box 358130, Pittsburgh, PA 15251-5130.
n. Duplicate License (Electronic Filing) | 601 & 159 | 50.00 | PADM | Federal Communications Commission, Wireless Bureau ELT, P.O. Box 358994, Pittsburgh, PA 15251-5185.
o. Special Temporary Authority | 601 & 159 | 50.00 | PAOM | Federal Communications Commission, Wireless Bureau Applications, P.O. Box 358130, Pittsburgh, PA 15251-5185.
p. Special Temporary Authority (Electronic Filing) | 601 & 159 | 50.00 | PAOM | Federal Communications Commission, Wireless Bureau ELT, P.O. Box 358994, Pittsburgh, PA 15251-5185.
q. Rule Waiver | 601 & 159 | 145.00 | PDWM | Federal Communications Commission, Wireless Bureau Applications, P.O. Box 358130, Pittsburgh, PA 15251-5185.
r. Rule Waiver (Electronic Filing) | 601 & 159 | 145.00 | PDWM | Federal Communications Commission, Wireless Bureau ELT, P.O. Box 358994, Pittsburgh, PA 15251-5185.
6. Land Mobile, PMRS:
a. New or Renew/Mod (Frequencies below 470 MHz (except 220 MHz)) | 601 & 159 | 50.00 | PALR* | Federal Communications Commission, Wireless Bureau Applications, P.O. Box 358130, Pittsburgh, PA 15251-5185.
b. New or Renew/Mod (Frequencies below 470 MHz (except 220 MHz)) (Electronic Filing) | 601 & 159 | 50.00 | PALR* | Federal Communications Commission, Wireless Bureau ELT, P.O. Box 358994, Pittsburgh, PA 15251-5185.
c. New or Renew/Mod (Frequencies 470 MHz and above and 220 MHz Local) | 601 & 159 | 50.00 | PALS* | Federal Communications Commission, Wireless Bureau Applications, P.O. Box 358130, Pittsburgh, PA 15251-5185.
d. New or Renew/Mod (Frequencies 470 MHz and above and 220 MHz Local) (Electronic Filing) | 601 & 159 | 50.00 | PALS* | Federal Communications Commission, Wireless Bureau ELT, P.O. Box 358994, Pittsburgh, PA 15251-5185.
e. New or Renew/Mod (220 MHz Nationwide | 601 & 159 | 50.00 | PALT* | Federal Communications Commission, Wireless Bureau Applications, P.O. Box 358130, Pittsburgh, PA 15251-5185.
f.New or Renew/Mod (220 MHz Nationwide) (Electronic Filing) | 601 & 159 | 50.00 | PALT* | Federal Communications Commission, Wireless Bureau ELT, P.O. Box 358994, Pittsburgh, PA 15251-5185.
g. Modification; Non-Profit; For Profit Special Emergency and Public Safety; and CMRS | 601 & 159 | 50.00 | PALM | Federal Communications Commission, Wireless Bureau Applications, P.O. Box 358130, Pittsburgh, PA 15251-5185.
h. Modification; Non-Profit; For Profit Special Emergency and Public Safety; and CMRS (Electronic Filing) | 601 & 159 | 50.00 | PALM | Federal Communications Commission, Wireless Bureau ELT, P.O. Box 358994, Pittsburgh, PA 15251-5185.
i. Renewal | 601 & 159 | 50.00 | PALR* PALS* PALT* | Federal Communications Commission, Wireless Bureau Applications, P.O. Box 358245, Pittsburgh, PA 15251-5185.
j. Renewal (Electronic Filing) | 601 & 159 | 50.00 | PALR* PALS* PALT* | Federal Communications Commission, Wireless Bureau ELT, P.O. Box 358994, Pittsburgh, PA 15251-5185.
k. Renewal (Non-Profit; CMRS; For-Profit Special Emergency and Public Safety) | 601 & 159 | 50.00 | PALM | Federal Communications Commission, Wireless Bureau Applications, P.O. Box 358130, Pittsburgh, PA 15251-5185.
l. Renewal (Non-Profit; CMRS; For-Profit Special Emergency and Public Safety (Electronic Filing) | 601 & 159 | 50.00 | PALM | Federal Communications Commission, Wireless Bureau ELT, P.O. Box 358994, Pittsburgh, PA 15251-5185.
m. Assignment of Authorization (PMRS and CMRS) | 603 & 159 | 50.00 | PALM | Federal Communications Commission, Wireless Bureau Applications, P.O. Box 358130, Pittsburgh, PA 15251-5185.
n. Assignment of Authorization (PMRS and CMRS) (Electronic Filing) | 603 & 159 | 50.00 | PALM | Federal Communications Commission, Wireless Bureau ELT, P.O. Box 358994, Pittsburgh, PA 15251-5994.
o. Transfer of Control (PMRS and CMRS) | 603 & 159 | 50.00 | PATM | Federal Communications Commission, Wireless Bureau Applications, P.O. Box 358130, Pittsburgh, PA 15251-5130.
p. Transfer of Control (PMRS and CMRS) (Electronic Filing) | 603 & 159 | 50.00 | PATM | Federal Communications Commission, Wireless Bureau ELT, P.O. Box 358994, Pittsburgh, PA 15251-5994.
q. Duplicate License | 601 & 159 | 50.00 | PADM | Federal Communications Commission, Wireless Bureau Applications P.O. Box 358130, Pittsburgh, PA 15251-5130.
r. Duplicate License (Electronic Filing) | 601 & 159 | 50.00 | PADM | Federal Communications Commission, Wireless Bureau ELT, P.O. Box 358994, Pittsburgh, PA 15251-5994.
s. Special Temporary Authority | 601 & 159 | 50.00 | PALM | Federal Communications Commission, Wireless Bureau Applications, P.O. Box 358130, Pittsburgh, PA 15251-5130.
t. Special Temporary Authority (Electronic Filing) | 601 & 159 | 50.00 | PALM | Federal Communications Commission, Wireless Bureau ELT, P.O. Box 358994 Pittsburgh, PA 15251-594.
u. Rule Waiver | 601 & 159 | 145.00 | PDWM | Federal Communications Commission, Wireless Bureau Applications, P.O. Box 358130, Pittsburgh, PA 15251-5130.
v. Rule Waiver (Electronic Filing) | 601 & 159 | 145.00 | PDWM | Federal Communications Commission, Wireless Bureau ELT, P.O. Box 358994, Pittsburgh, PA 15251-5994.
w. Consolidate Call Signs | 601 & 159 | 50.00 | PALM | Federal Communications Commission, Wireless Bureau Applications, P.O. Box 358130, Pittsburgh, PA 15251-5130.
x. Consolidate Call Signs (Electronic Filing) | 601 & 159 | 50.00 | PALM | Federal Communications Commission, Wireless Bureau ELT, P.O. Box 358994, Pittsburgh, PA 15251-5994.
7. 218-219 MHz (previously IVDS):
a. New; Renew/Mod | 601 & 159 | 50.00 | PAIR* | Federal Communications Commission, Wireless Bureau Applications, P.O. Box 358130, Pittsburgh, PA 15251-5130.
b. New; Renew/Mod (Electronic Filing) | 601 & 159 | 50.00 | PAIR* | Federal Communications Commission, Wireless Bureau ELT, P.O. Box 358994 Pittsburgh, PA 15251-5994.
c. Modification | 601 & 159 | 50.00 | PAIM | Federal Communications Commission, Wireless Bureau Applications, P.O. Box 358130, Pittsburgh, PA 15251-5130.
d. Modification (Electronic Filing) | 601 & 159 | 50.00 | PAIM | Federal Communications Commission, Wireless Bureau ELT, P.O. Box 358994, Pittsburgh, PA 15251-5994.
e. Renewal | 601 & 159 | 50.00 | PAIR* | Federal Communications Commission, Wireless Bureau Applications, P.O. Box 358245, Pittsburgh, PA 15251-5245.
f. Renewal (Electronic Filing) | 601 & 159 | 50.00 | PAIR* | Federal Communications Commission, Wireless Bureau ELT, P.O. Box 358994, Pittsburgh, PA 15251-5994.
g. Assignment of Authorization | 603 & 159 | 50.00 | PAIM | Federal Communications Commission, Wireless Bureau Applications, P.O. Box 358130, Pittsburgh, PA 15251-5130.
h. Assignment of Authorization (Electronic Filing) | 603 & 159 | 50.00 | PAIM | Federal Communications Commission, Wireless Bureau ELT, P.O. Box 358994, Pittsburgh, PA 15251-5994.
i. Transfer of Control | 603 & 159 | 50.00 | PATM | Federal Communications Commission, Wireless Bureau Applications, P.O. Box 358130, Pittsburgh, PA 15251-5130.
j. Transfer of Control (Electronic Filing) | 603 & 159 | 50.00 | PATM | Federal Communications Commission, Wireless Bureau ELT, P.O. Box 358994, Pittsburgh, PA 15251-5994.
k. Duplicate License | 601 & 159 | 50.00 | PADM | Federal Communications Commission, Wireless Bureau Applications, P.O. Box 358130, Pittsburgh, PA 15251-5130.
l. Duplicate License (Electronic Filing) | 601 & 159 | 50.00 | PADM | Federal Communications Commission, Wireless Bureau ELT, P.O. Box 358994, Pittsburgh, PA 15251-5994.
m. Special Temporary Authority | 601 & 159 | 50.00 | PAIM | Federal Communications Commission, Wireless Bureau Applications, P.O. Box 358130, Pittsburgh, PA 15251-5130.
n. Special Temporary Authority (Electronic Filing) | 601 & 159 | 50.00 | PAIM | Federal Communications Commission, Wireless Bureau ELT, P.O. Box 358994, Pittsburgh, PA 15251-5994.
8. General Mobile Radio (GMRS)
a. New; Renew/Mod | 605 & 159 | 50.00 | PALR* | Federal Communications Commission, Wireless Bureau Applications, P.O. Box 358130, Pittsburgh, PA 15251-5130.
b. New; Renew/Mod (Electronic Filing) | 605 & 159 | 50.00 | PALR* | Federal Communications Commission, Wireless Bureau ELT, P.O. Box 358994, Pittsburgh, PA 15251-5994.
c. Modification | 605 & 159 | 50.00 | PALM | Federal Communications Commission, Wireless Bureau Applications, P.O. Box 358130, Pittsburgh, PA 15251-5130.
d. Modification (Electronic Filing) | 605 & 159 | 50.00 | PALM | Federal Communications Commission, Wireless Bureau ELT, P.O. Box 358994, Pittsburgh, PA 15251-5994.
e. Renewal | 605 & 159 | 50.00 | PALR* | Federal Communications Commission, Wireless Bureau Applications, P.O. Box 358245, Pittsburgh, PA 15251-5245.
f. Renewal (Electronic Filing) | 605 & 159 | 50.00 | PALR* | Federal Communications Commission, Wireless Bureau ELT, P.O. Box 358994, Pittsburgh, PA 15251-5994.
g. Duplicate License | 605 & 159 | 50.00 | PADM | Federal Communications Commission, Wireless Bureau Applications, P.O. Box 358130, Pittsburgh, PA 15251-5130.
h. Duplicate License (Electronic Filing) | 605 & 159 | 50.00 | PADM | Federal Communications Commission, Wireless Bureau ELT, P.O. Box 358994, Pittsburgh, PA 15251-5994.
i. Special Temporary Authority | 605 & 159 | 50.00 | PALM | Federal Communications Commission, Wireless Bureau Applications, P.O. Box 358130, Pittsburgh, PA 15251-5130.
j. Special Temporary Authority (Electronic Filing) | 605 & 159 | 50.00 | PALM | Federal Communications Commission, Wireless Bureau ELT, P.O. Box 358994, Pittsburgh, PA 15251-5994.
k. Rule Waiver | 605 & 159 | 145.00 | PDWM | Federal Communications Commission, Wireless Bureau Applications, P.O. Box 358130, Pittsburgh, PA 15251-5130.
l. Rule Waiver (Electronic Filing) | 605 & 159 | 145.00 | PDWM | Federal Communications Commission, Wireless Bureau ELT, P.O. Box 358994, Pittsburgh, PA 15251-5994.
9. Restricted Radiotelephone:
a. New (Lifetime Permit) | 753 & 159 | 50.00 | PARR | Federal Communications Commission, Wireless Bureau Applications, P.O. Box 358130, Pittsburgh, PA 15251-5130.
New—Limited Use | 755 & 159
b. Duplicate/Replacement Permit | 753 & 159 | 50.00 | PADM | Federal Communications Commission, Wireless Bureau Applications, P.O. Box 358130, Pittsburgh, PA 15251-5130.
Duplicate/Replacement Permit (Limited Use) | 755 & 159
10. Commercial Radio Operator:
a. Renewal | 756 & 159 | 50.00 | PACS | Federal Communications Commission, Wireless Bureau Applications, P.O. Box 358130, Pittsburgh, PA 15251-5130.
b. Duplicate | 756 & 159 | 50.00 | PADM | Federal Communications Commission, Wireless Bureau Applications, P.O. Box 358130, Pittsburgh, PA 15251-5130.
11. Hearing | Corres & 159 | 9,020.00 | PFHM | Federal Communications Commission, Wireless Bureau Applications, P.O. Box 358130, Pittsburgh, PA 15251-5130.
12. Common Carrier Microwave (Pt. To Pt. & Local TV Trans):
a. New; Renew/Mod (Electronic Filing Required) | 601 & 159 | 210.00 | CJPR* | Federal Communications Commission, Wireless Bureau ELT, P.O. Box 358994, Pittsburgh, PA 15251-5994.
b. Modification; Consolidate Call Signs (Electronic Filing Required) | 601 & 159 | 210.00 | CJPM | Federal Communications Commission, Wireless Bureau ELT, P.O. Box 358994, Pittsburgh, PA 15251-5994.
c. Renewal (Electronic Filing Required) | 601 & 159 | 210.00 | CJPR* | Federal Communications Commission, Wireless Bureau ELT, P.O. Box 358994, Pittsburgh, PA 15251-5994.
d. Assignment of Authorization; Transfer of Control | 603 & 159 | 75.00 | CCPM | Federal Communications Commission, Wireless Bureau ELT, P.O. Box 358994, Pittsburgh, PA 15251-5994.
Additional Stations (Electronic Filing Required) |  | 50.00 | CAPM
e. Duplicate License (Electronic Filing Required) | 601 & 159 | 50.00 | PADM | Federal Communications Commission, Wireless Bureau ETL, P.O. Box 358994, Pittsburgh, PA 15251-5994.
f. Extension of Construction Authority (Electronic Filing Required) | 601 & 159 | 75.00 | CCPM | Federal Communications Commission, Wireless Bureau ETL, P.O. Box 358994, Pittsburgh, PA 15251-5994.
g. Special Temporary Authority | 601 & 159 | 95.00 | CEPM | Federal Communications Commission, Wireless Bureau Applications, P.O. Box 358130, Pittsburgh, PA 15251-5130.
h. Special Temporary Authority (Electronic Filing ) | 601 & 159 | 95.00 | CEPM | Federal Communications Commission, Wireless Bureau ETL, P.O. Box 358994, Pittsburgh, PA 15251-5994.
13. Common Carrier Microwave (DEMS):
a. New; Renewal/Mod (Electronic Filing Required) | 601 & 159 | 210.00 | CJLR* | Federal Communications Commission, Wireless Bureau ELT, P.O. Box 358994, Pittsburgh, PA 15251-5994.
b. Modification; Consolidate Call Signs (Electronic Filing Required) | 601 & 159 | 210.00 | CJLM | Federal Communications Commission, Wireless Bureau ETL, P.O. Box 358994, Pittsburgh, PA 15251-5994.
c. Renewal (Electronic Filing Required) | 601 & 159 | 210.00 | CJLR* | Federal Communications Commission, Wireless Bureau ETL, P.O. Box 358994, Pittsburgh, PA 15251-5994.
d. Assignment of Authorization; Transfer of Control | 603 & 159 | 75.00 | CCLM | Federal Communications Commission, Wireless Bureau ETL, P.O. Box 358994, Pittsburgh, PA 15251-5994.
Additional Stations (Electronic Filing Required) |  | 50.00 | CALM
e. Duplicate License (Electronic Filing Required) | 601 & 159 | 50.00 | PADM | Federal Communications Commission, Wireless Bureau ETL, P.O. Box 358994, Pittsburgh, PA 15251-5994.
f. Extension of Construction Authority (Electronic Filing Required) | 601 & 159 | 75.00 | CCLM | Federal Communications Commission, Wireless Bureau ETL, P.O. Box 358994, Pittsburgh, PA 15251-5994.
g. Special Temporary Authority | 601 & 159 | 95.00 | CELM | Federal Communications Commission, Wireless Bureau Applications, P.O. Box 358130, Pittsburgh, PA 15251-5130.
h. Special Temporary Authority (Electronic Filing) | 601 & 159 | 95.00 | CELM | Federal Communications Commission, Wireless Bureau ETL, P.O. Box 358994, Pittsburgh, PA 15251-5994.
14. Broadcast Auxiliary (Aural and TV Microwave):
a. New; Modification; Renew/Mod | 601 & 159 | 115.00 | MEA | Federal Communications Commission, Wireless Bureau Applications, P.O. Box 358130, Pittsburgh, PA 15251-5130.
b. New; Modification; Renew/Mod (Electronic Filing) | 601 & 159 | 115.00 | MEA | Federal Communications Commission, Wireless Bureau ETL, P.O. Box 358994, Pittsburgh, PA 15251-5994.
c. Special Temporary Authority | 601 & 159 | 135.00 | MGA | Federal Communications Commission, Wireless Bureau Applications, P.O. Box 358130, Pittsburgh, PA 15251-5130.
d. Special Temporary Authority (Electronic Filing) | 601 & 159 | 135.00 | MGA | Federal Communications Commission, Wireless Bureau ETL, P.O. Box 358994, Pittsburgh, PA 15251-5994.
e. Renewal | 601 & 159 | 50.00 | MAA | Federal Communications Commission, Wireless Bureau Applications, P.O. Box 358245, Pittsburgh, PA 15251-5245
f. Renewal (Electronic Filing) | 601 & 159 | 50.00 | MAA | Federal Communications Commission, Wireless Bureau ETL, P.O. Box 358994, Pittsburgh, PA 15251-5994.
15. Broadcast Auxiliary (Remote and Low Power):
a. New; Modification; Renew/Mod | 601 & 159 | 115.00 | MEA | Federal Communications Commission, Wireless Bureau Applications, P.O. Box 358130, Pittsburgh, PA 15251-5130.
b. New; Modification; Renew/Mod (Electronic Filing) | 601 & 159 | 115.00 | MEA | Federal Communications Commission, Wireless Bureau ETL, P.O. Box 358994, Pittsburgh, PA 15251-5994.
c. Renewal | 601 & 159 | 50.00 | MAA | Federal Communications Commission, Wireless Bureau Applications, P.O. Box 358130, Pittsburgh, PA 15251-5130.
d. Renewal (Electronic Filing) | 601 & 159 | 50.00 | MAA | Federal Communications Commission, Wireless Bureau ETL, P.O. Box 358994, Pittsburgh, PA 15251-5994.
e. Special Temporary Authority | 601 & 159 | 135.00 | MGA | Federal Communications Commission, Wireless Bureau Applications, P.O. Box 358130, Pittsburgh, PA 15251-5130.
f. Special Temporary Authority (Electronic Filing) | 601 & 159 | 135.00 | MGA | Federal Communications Commission, Wireless Bureau ETL, P.O. Box 358994, Pittsburgh, PA 15251-5994.
16. Pt 22 Paging & Radiotelephone:
a. New; Major Mod; Additional Facility; Major Amendment; Major Renewal/Mod; Fill in Transmitter (Per transmitter) (Electronic filing required) | 601 & 159 | 310.00 | CMD | Federal Communications Commission, Wireless Bureau ETL, P.O. Box 358994, Pittsburgh, PA 15251-5994.
b. Minor Mod; Renewal; Minor Renewal/Mod; (Per Call Sign) 900 MHz Nationwide Renewal New Organ; New Operator (Per Operator/Per City) Notice of Completion of Construction or Extension of Time to Construct (Per Application) (Electronic filing required) | 601 & 159 | 50.00 | CAD | Federal Communications Commission, Wireless Bureau ELT, P.O. Box 358994, Pittsburgh, PA 15251-5185.
c. Auxiliary Test (Per Transmitter); Consolidate Calls (Per Call Sign) (Electronic Filing Required) | 601 & 159 | 270.00 | CLD | Federal Communications Commission, Wireless Bureau ELT, P.O. Box 358994, Pittsburgh, PA 15251-5185.
d. Special Temporary Authority (Per Location/Per Frequency) | 601 & 159 | 270.00 | CLD | Federal Communications Commission, Wireless Bureau Applications, P.O. Box 358130, Pittsburgh, PA 15251-5185.
e. Special Temporary Authority (Per Location/Per Frequency) (Electronic Filing) | 601 & 159 | 270.00 | CLD | Federal Communications Commission, Wireless Bureau ELT, P.O. Box 358994, Pittsburgh, PA 15251-5185.
f. Assignment of License or Transfer of Control (Full or Partial) (Per Call Sign); Additional Call Signs (Per Call Sign) (Electronic Filing Required) | 603 & 159 | 310.00 50.00 | CMD CAD | Federal Communications Commission, Wireless Bureau ELT, P.O. Box 358994, Pittsburgh, PA 15251-5185.
g. Subsidiary Comm Service (Per Request) (Electronic Filing Required) | 601 & 159 | 135.00 | CFD | Federal Communications Commission, Wireless Bureau ELT, P.O. Box 358994, Pittsburgh, PA 15251-5994.
h. Air Ground Individual Initial License; Mod; Renewal (Per Station) | 409 & 159 | 50.00 | CAD | Federal Communications Commission, Wireless Bureau Applications, P.O. Box 358130, Pittsburgh, PA 15251-5130.
17. Cellular;
a. New; Major Mod; Additional Facility; Major Renewal/Mod (Electronic Filing Required) | 601 & 159 | 310.00 | CMC | Federal Communications Commission, Wireless Bureau ELT, P.O. Box 358994, Pittsburgh, PA 15251-5994.
b. Minor Modification; Minor Renewal/Mod (Electronic Filing Required) | 601 & 159 | 85.00 | CDC | Federal Communications Commission, Wireless Bureau ELT, P.O. Box 358994, Pittsburgh, PA 15251-5994.
c. Assignment of License or Transfer of Control (Full or Partial (Electronic Filing Required) | 603 & 159 | 310.00 | CMC | Federal Communications Commission, Wireless Bureau ELT, P.O. Box 358994, Pittsburgh, PA 15251-5994.
d. Notice of Extension of Time to Complete Construction; Renewal (Electronic Filing Required) | 601 & 159 | 50.00 | CAC | Federal Communications Commission, Wireless Bureau ELT, P.O. Box 358994, Pittsburgh, PA 15251-5185.
e. Special Temporary Authority | 601 & 159 | 270.00 | CLC | Federal Communications Commission, Wireless Bureau Applications, P.O. Box 358130, Pittsburgh, PA 15251-5130.
f. Special Temporary Authority (Electronic Filing) | 601 & 159 | 270.00 | CLC | Federal Communications Commission, Wireless Bureau ELT, P.O. Box 358994, Pittsburgh, PA 15251-5994.
g. Combining Cellular Geographic Areas (Electronic Filing Required) | 601 & 159 | 70.00 | CBC | Federal Communications Commission, Wireless Bureau ELT, P.O. Box 358994, Pittsburgh, PA 15251-5994.
18. Rural Radio:
a. New; Major Renew/Mod; Additional Facility (Per Transmitter) (Electronic Filing Required) | 601 & 159 | 145.00 | CGRR | Federal Communications Commission, Wireless Bureau ELT, P.O. Box 358994, Pittsburgh, PA 15251-5185.
b. Major Mod; Major Amendment (Per Transmitter) (Electronic Filing Required) | 601 & 159 | 145.00 | CGRM | Federal Communications Commission, Wireless Bureau ELT, P.O. Box 358994, Pittsburgh, PA 15251-5185.
c. Minor Modification; (Per Transmitter) (Electronic Filing Required) | 601 & 159 | 50.00 | CARM | Federal Communications Commission, Wireless Bureau ELT, P.O. Box 358994, Pittsburgh, PA 15251-5994.
d. Assignment of License or Transfer of Control (Full or Partial) (Per Call Sign); | 603 & 159 | $145.00 | CGRM | Federal Communications Commission, Wireless Bureau ELT, P.O. Box 358994, Pittsburgh, PA 15251-5994.
Additional Calls (Per Call Sign) (Electronic Filing Required) |  | 50.00 | CARM
e. Renewal (Per Call Sign); Minor Renew/Mod (Per Transmitter) (Electronic Filing Required) | 601 & 159 | 50.00 | CARR* | Federal Communications Commission, Wireless Bureau ELT, P.O. Box 358994, Pittsburgh, PA 15251-5994.
f. Notice of Completion of Construction or Extension of Time to Construct (Per Application) (Electronic Filing Required) | 601 & 159 | 50.00 | CARM | Federal Communications Commission, Wireless Bureau ELT, P.O. Box 358994, Pittsburgh, PA 15251-5994.
g. Special Temporary Authority (Per Transmitter) | 601 & 159 | 270.00 | CLRM | Federal Communications Commission, Wireless Bureau Applications, P.O. Box 358130, Pittsburgh, PA 15251-5130.
h. Special Temporary Authority (Per Transmitter) (Electronic Filing Required) | 601 & 159 | 270.00 | CLRM | Federal Communications Commission, Wireless Bureau ELT, P.O. Box 358994, Pittsburgh, PA 15251-5994.
i. Combining Call Signs (Per Call Sign) (Electronic Filing Required) | 601 & 159 | 270.00 | CLRM | Federal Communications Commission, Wireless Bureau ELT, P.O. Box 358994, Pittsburgh, PA 15251-5994.
j. Auxiliary Test Station (Per Transmitter) (Electronic Filing Required) | 601 & 159 | 270.00 | CLRM | Federal Communications Commission, Wireless Bureau ELT, P.O. Box 358994, Pittsburgh, PA 15251-5994.
19. Offshore Radio:
a. New; Major Mod; Additional Facility; Major Amendment; Major Renew/Mod; Fill in Transmitters (Per Transmitter) (Electronic Filing Required) | 601 & 159 | 145.00 | CGF | Federal Communications Commission, Wireless Bureau ELT, P.O. Box 358994, Pittsburgh, PA 15251-5994.
b. Consolidate Call Signs (Per Call Sign); Auxiliary Test (Per Transmitter) (Electronic Filing Required) | 601 & 159 | 270.00 | CLF | Federal Communications Commission, Wireless Bureau ELT, P.O. Box 358994, Pittsburgh, PA 15251-5994.
c. Minor Modification (Per Transmitter) Notice of Completion of Construction or Extension of Time to Construct (Per Application); Renewal (Per Call Sign) (Electronic Filing Required) | 601 & 159 | 50.00 | CAF | Federal Communications Commission, Wireless Bureau ELT, P.O. Box 358994, Pittsburgh, PA 15251-5994.
d. Assignment of License or Transfer of Control (Full or Partial) | 603 & 159 | 145.00 | CGF | Federal Communications Commission, Wireless Bureau ELT, P.O. Box 358994, Pittsburgh, PA 15251-5994.
e. Special Temporary Authority (Per Transmitter) | 601 & 159 | 270.00 | CLF | Federal Communications Commission, Wireless Bureau Applications, P.O. Box 358130, Pittsburgh, PA 15251-5130.
f. Special Temporary Authority (Per Transmitter) (Electronic Filing) | 601 & 159 | 270.00 | CLF | Federal Communications Commission, Wireless Bureau ELT, P.O. Box 358994, Pittsburgh, PA 15251-5994.
20. Billing | Invoice | Various | Various | Federal Communications Commission, Wireless Telecommunications Bureau, P.O. Box 358325, Pittsburgh, PA 15251-5325.

3. Section 1.1103 is revised to read as follows:

§ 1.1103 Schedule of charges for equipment approval, experimental radio services, and international telecommunications settlements.

Action | FCC Form No. | Fee amount | Payment type code | Address
1. Certification:
a. Receivers (except TV & FM) | Electronic 731 & Electronic or Paper 159 | $385.00 | EEC | Federal Communications Commission, Equipment Approval Services P.O. Box 358315, Pittsburgh, PA 15251-5315.
b. Devices Under Parts 11, 15 & 18 (except TV and FM) | Electronic 731 & Electronic or Paper 159 | 985.00 | EGC | Federal Communications Commission, Equipment Approval Services, P.O. Box 358315, Pittsburgh, PA 15251-5315.
c. All Other Devices | Electronic 731 & Electronic or Paper 159 | 495.00 | EFT | Federal Communications Commission, Equipment Approval Services, P.O. Box 358315, Pittsburgh, PA 15251-5315.
d. Modifications and Class II Permissive Changes | Electronic 731 & Electronic or Paper 159 | 50.00 | EAC | Federal Communications Commission, Equipment Approval Services, P.O. Box 358315, Pittsburgh, PA 15251-5315.
e. Request for Confidentiality | Electronic 731 & Electronic or Paper 159 | 145.00 | EBC | Federal Communications Commission, Equipment Approval Services, P.O. Box 358315, Pittsburgh, PA 15251-5315.
2. Advance Approval of Subscription TV Systems | Electronic Corres & Electronic or Paper 159 | 3,010.00 | EIS | Federal Communications Commission, Equipment Approval Services, P.O. Box 358315, Pittsburgh, PA 15251-5315.
a. Request for Confidentiality | Electronic Corres & Electronic or Paper 159 | 145.00 | EBS | Federal Communications Commission, Equipment Approval Services, P.O. Box 358315, Pittsburgh, PA 15251-5315.
3. Assignment of Grantee Code:
a. New Applicants for all Application Types, except Subscription TV | Electronic Corres & Electronic or Paper 159 | 50.00 | EAG | Federal Communications Commission, Equipment Approval Services, P.O. Box 358315, Pittsburgh, PA 15251-5315.
4. Experimental Radio Service:
a. New Station Authorization | 442 & 159 | 50.00 | EAE | Federal Communications Commission, Equipment Radio Services, P.O. Box 358320, Pittsburgh, PA 15251-5320.
b. Modification of Authorization | 442 & 159 | 50.00 | EAE | Federal Communications Commission, Equipment Radio Services, P.O. Box 358320, Pittsburgh, PA 15251-5320.
c. Renewal of Station Authorization | 442 & 159 | 50.00 | EAE | Federal Communications Commission, Equipment Radio Services, P.O. Box 358320, Pittsburgh, PA 15251-5320.
d. Assignment of Transfer of Control | 702 & 159 or 703 & 159 | 50.00 | EAE | Federal Communications Commission, Equipment Radio Services, P.O. Box 358320, Pittsburgh, PA 15251-5320.
e. Special Temporary Authority Requirements | Corres & 159 | 50.00 | EAE | Federal Communications Commission, Equipment Radio Services, P.O. Box 358320, Pittsburgh, PA 15251-5320.
f. Additional fee required for any of the above applications that request withholding from public inspection | Corres & 159 | 50.00 | EAE | Federal Communications Commission, Equipment Radiol Services, P.O. Box 358320, Pittsburgh, PA 15251-5320.
5. International Telecommunciations | Form 99 | 2.00 | IAT | Federal Communications Commission, International Telecommunications Settlements, P.O. Box 358001, Pittsburgh, PA 15251-5001.

4. Section 1.1104 is revised to read as follows:

§ 1.1104 Schedule of charges for applications and other filings for the Mass Media Services.

[Those services designated with an asterisk in the Payment Type Code column accepts multiples if filing in the same post office box.]
Action | FCC Form No. | Fee amount | Payment type code | Address
1. Commercial Television Stations: | 301 & 159 or 301-CA & 159 | $3,385.00 | MVT | Federal Communications Commission, Mass Media Services, P.O. Box 358165 Pittsburgh, PA 15251-5165.
a. New and Major Change Construction Permits
b. Minor Change (per application) | 301 & 159 or 301-CA & 159 | 755.00 | MPT | Federal Communications Commission, Mass Media Services, P.O. Box 358165, Pittsburgh, PA 15251-5165
c. Main Studio Request | Corres & 159 | 755.00 | MPT | Federal Communications Commission, Mass Media Services, P.O. Box 358165, Pittsburgh, PA 15251-5165
d. New License (per application) | 302-TV & 159 or 302-CA & 159 | 230.00 | MJT | Federal Communications Commission, Mass Media Services, P.O. Box 358165, Pittsburgh, PA 15251-5165.
e. License Renewal | 303-S & 159 | 135.00 | MGT | Federal Communications Commission, Mass Media Services, P.O. Box 358165, Pittsburgh, PA 15251-5165
f. License Assignment:
(1) Long Form | 314 & 159 | 755.00 | MPT* | Federal Communications Commission, Mass Media Services, P.O. Box 358350, Pittsburgh, PA 15251-5350
(2) Short Form | 316 & 159 | 110.00 | MDT* | Federal Communications Commission, Mass Media Services, P.O. Box 358350, Pittsburgh, PA 15251-5350.
g. Transfer of Control:
(1) Long Form | 315 & 159 | 755.00 | MPT* | Federal Communications Commission, Mass Media Services, P.O. Box 358350, Pittsburgh, PA 15251-5350
(2) Short Form | 316 & 159 | 110.00 | MDT* | Federal Communications Commission, Mass Media Services, P.O. Box 358350, Pittsburgh, PA 15251-5350
h. Hearing (New and Major/Minor Change Comparative Construction Permit Hearings | Corres & 159 | 9,020.00 | MWT | Federal Communications Commission, Mass Media Services, P.O. Box 358170, Pittsburgh, PA 15251-5170.
I. Call Sign | 380 & 159 | 75.00 | MBT | Federal Communications Commission, Mass Media Services, P.O. Box 358165, Pittsburgh, PA 15251-5165
j. Special Temporary Authority | Corres & 159 | 135.00 | MGT | Federal Communications Commission, Mass Media Services, P.O. Box 358165, Pittsburgh, PA 15251-5165.
k. Petition for Rulemaking for New Community of License | 301 & 159 or 302-TV & 159 | 2,090.00 | MRT | Federal Communications Commission, Mass Media Services, P.O. Box 358165, Pittsburgh, PA 15251-5165.
l. Ownership Report | 323 & 159 or Corres & 159 | 50.00 | MAT* | Federal Communications Commission, Mass Media Services, P.O. Box 358180, Pittsburgh, PA 15251-5180.
2. Commercial AM Radio Stations:
a. New or Major Change Construction Permit | 301 & 159 | 3,010.00 | MUR | Federal Communications Commission, Mass Media Services, P.O. Box 358190, Pittsburgh, PA 15251-5190.
b. Minor Change | 301 & 159 | 755.00 | MPR | Federal Communications Commission, Mass Media Services, P.O. Box 358190, Pittsburgh, PA 15251-5190.
c. Main Studio Request | Corres & 159 | 755.00 | MPR | Federal Communications Commission, Mass Media Services, P.O. Box 358190, Pittsburgh, PA 15251-5190.
d. New License | 302-AM & 159 | 495.00 | MMR | Federal Communications Commission, Mass Media Services, P.O. Box 358190, Pittsburgh, PA 15251-5190.
e. AM Directional Antenna | 302-AM & 159 | 570.00 | MOR | Federal Communications Commission, Mass Media Services, P.O. Box 358190, Pittsburgh, PA 15251-5190.
f. AM Remote Control | 301 & 159 | 50.00 | MAR | Federal Communications Commission, Mass Media Services, P.O. Box 358190, Pittsburgh, PA 15251-5190.
g. License Renewal | 303-S & 159 | 135.00 | MGR | Federal Communications Commission, Mass Media Services, P.O. Box 358190, Pittsburgh, PA 15251-5190.
h. License Assignment:
(1) Long Form | 314 & 159 | 755.00 | MPR* | Federal Communications Commission, Mass Media Services, P.O. Box 358350, Pittsburgh, PA 15251-5350.
(2) Short Form | 316 & 159 | 110.00 | MDR* | Federal Communications Commission, Mass Media Services, P.O. Box 358350, Pittsburgh, PA 15251-5350.
I. Transfer of Control:
(1) Long Form | 315 & 159 | 755.00 | MPR* | Federal Communications Commission, Mass Media Services, P.O. Box 358350, Pittsburgh, PA 15251-5350.
(2) Short Form | 316 & 159 | 110.00 | MDR* | Federal Communications Commission, Mass Media Services, P.O. Box 358350, Pittsburgh, PA 15251-5350.
j. Hearing (New or Major/Minor Change, Comparative Construction Permit) | Corres & 159 | 9,020.00 | MW | Federal Communications Commission, Mass Media Services, P.O. Box 358170, Pittsburgh, PA 15251-5170.
k. Call Sign | 380 & 159 | 75.00 | MBR | Federal Communications Commission, Mass Media Services, P.O. Box 358165, Pittsburgh, PA 15251-5165.
l. Special Temporary Authority | Corres & 159 | 135.00 | MGR | Federal Communications Commission, Mass Media Services, P.O. Box 358190, Pittsburgh, PA 15251-5190.
m. Ownership Report | 323 & 159 or Corres & 159 | 50.00 | MAR* | Federal Communications Commission, Mass Media Services, P.O. Box 358180, Pittsburgh, PA 15251-5180.
3. Commercial FM Radio Station:
a. New or Major Change Construction Permit | 301 & 159 | 2,710.00 | MTR | Federal Communications Commission, Mass Media Services, P.O. Box 358195, Pittsburgh, PA 15251-5195.
b. Minor Change | 301 & 159 | 755.00 | MPR | Federal Communications Commission, Mass Media Services, P.O. Box 358195, Pittsburgh, PA 15251-5195.
c. Main Studio Request | Corres & 159 | 755.00 | MPR | Federal Communications Commission, Mass Media Services, P.O. Box 358195, Pittsburgh, PA 15251-5195.
d. New License | 302-FM & 159 | 155.00 | MHR | Federal Communications Commission, Mass Media Services, P.O. Box 358195, Pittsburgh, PA 15251-5195.
e. FM Directional Antenna | 302-FM & 159 | 475.00 | MLR | Federal Communications Commission, Mass Media Services, P.O. Box 358195, Pittsburgh, PA 15251-5195.
f. License Renewal | 303-S & 159 | 135.00 | MGR | Federal Communications Commission, Mass Media Services, P.O. Box 358190, Pittsburgh, PA 15251-5190.
g. License Assignment:
(1) Long Form | 314 & 159 | 755.00 | MPR* | Federal Communications Commission, Mass Media Services, P.O. Box 358350, Pittsburgh, PA 15251-5350.
(2) Short Form | 316 & 159 | 110.00 | MDR* | Federal Communications Commission, Mass Media Services, P.O. Box 358350, Pittsburgh, PA 15251-5350.
h. Transfer of Control:
(1) Long Form | 315 & 159 | 755.00 | MPR* | Federal Communications Commission, Mass Media Services, P.O. Box 358350, Pittsburgh, PA 15251-5350.
(2) Short Form | 316 & 159 | 110.00 | MDR* | Federal Communications Commission, Mass Media Services, P.O. Box 358350, Pittsburgh, PA 15251-5350.
I. Hearing (New and Major/Minor Change Comparative Construction Permit Hearings) | Corres & 159 | 9,020.00 | MWR | Federal Communications Commission, Mass Media Services, P.O. Box 358170, Pittsburgh, PA 15251-5170.
j. Call Sign | 380 & 159 | 75.00 | MBR | Federal Communications Commission, Mass Media Services, P.O. Box 358165, Pittsburgh, PA 15251-5165.
k. Special Temporary Authority | Corres & 159 | 135.00 | MGR | Federal Communications Commission, Mass Media Services, P.O. Box 358195, Pittsburgh, PA 15251-5195
l. Petition for Rulemaking for For New Community of License or Higher Class Channel | 301 & 159 or 302-FM & 159 | 2,090.00 | MRR | Federal Communications Commission, Mass Media Services, P.O. Box 358195, Pittsburgh, PA 15251-5195.
m. Ownership Report | 323 & 159 or Corres & 159 | 50.00 | MAR* | Federal Communications Commission, Mass Media Services, P.O. Box 358180, Pittsburgh, PA 15251-5180.
4. FM Translators:
a. New or Major Change Construction Permit | 349 & 159 | 570.00 | MOF | Federal Communications Commission, Mass Media Services, P.O. Box 358200, Pittsburgh, PA 15251-5200.
b. New License | 350 & 159 | 115.00 | MEF | Federal Communications Commission, Mass Media Services, P.O. Box 358200, Pittsburgh, PA 15251-5200.
c. License Renewal | 303-S & 159 | 50.00 | MAF | Federal Communications Commission, Mass Media Services, P.O. Box 358190, Pittsburgh, PA 15251-5200.
d. Special Temporary Authority | Corres & 159 | 135.00 | MGF | Federal Communications Commission, Mass Media Services, P.O. Box 358200, Pittsburgh, PA 15251-5200.
E. License Assignment | 345 & 159 or 314 & 159 or 316 & 159 | 110.00 | MDF* | Federal Communications Commission, Mass Media Services, P.O. Box 358350, Pittsburgh, PA 15251-5350.
f. Transfer of Control | 345 & 159 or 315 & 159 or 316 & 159 | 110.00 | MDF* | Federal Communications Commission, Mass Media Services, P.O. Box 358350, Pittsburgh, PA 15251-5350.
5. TV Translators and LPTV Stations:
a. New or Major Change Construction Permit | 346 & 159 | 570.00 | MOL | Federal Communications Commission, Mass Media Services, P.O. Box 358185, Pittsburgh, PA 15251-5185.
b. New License | 347 & 159 | 115.00 | MEL | Federal Communications Commission, Mass Media Services, P.O. Box 358185, Pittsburgh, PA 15251-5185.
c. License Renewal | 303-S & 159 | 50.00 | MAL* | Federal Communications Commission, Mass Media Services, P.O. Box 358165, Pittsburgh, PA 15251-5185.
d. Special Temporary Authority | Corres & 159 | 135.00 | MGL | Federal Communications Commission, Mass Media Services, P.O. Box 358185, Pittsburgh, PA 15251-5185.
e. License Assignment | 345 & 159 or 314 & 159 or 316 & 159 | 110.00 | MDL* | Federal Communications Commission, Mass Media Services, P.O. Box 358350, Pittsburgh, PA 15251-5350.
f. Transfer of Control | 345 & 159 or 315 & 159 or 316 & 159 | 110.00 | MDL* | Federal Communications Commission, Mass Media Services, P.O. Box 358350, Pittsburgh, PA 15251-5350.
6. FM Booster Stations:
a. New or Major Change Construction Permit | 349 & 159 | 570.00 | MOF | Federal Communications Commission, Mass Media Services, P.O. Box 358200, Pittsburgh, PA 15251-5200.
b. New License | 350 & 159 | 115.00 | MEF | Federal Communications Commission, Mass Media Services, P.O. Box 358200, Pittsburgh, PA 15251-5200.
c. Special Temporary Authority | Corres & 159 | 135.00 | MGF | Federal Communications Commission, Mass Media Services, P.O. Box 358200, Pittsburgh, PA 15251-5200.
7. TV Booster Stations
a. New or Major Change Construction Permit | 346 & 159 | 570.00 | MOF | Federal Communications Commission, Mass Media Services, P.O. Box 358185, Pittsburgh, PA 15251-5185.
b. New License | 347 & 159 | 115.00 | MEF | Federal Communications Commission, Mass Media Services, P.O. Box 358185, Pittsburgh, PA 15251-5185.
c. Special Temporary Authority | Corres & 159 | 135.00 | MGF | Federal Communications Commission, Mass Media Services, P.O. Box 358185, Pittsburgh, PA 15251-5185.
8. Multipoint Distribution Service (Including Multichannel MDS)
a. Conditional License (Per Station) | 304 & 159 or 331 & 159 | 210.00 | CJM | Federal Communications Commission, Mass Media Services, P.O. Box 358155, Pittsburgh, PA 15251-5155.
b. Major Modifications of Conditional Licenses or License Authorization (Per Station) | 304 & 159 or 331 & 159 | 210.00 | CJM | Federal Communications Commission, Mass Media Services, P.O. Box 358155, Pittsburgh, PA 15251-5155.
c. Certificate of Completion of Construction (Per Channel) | 304-A & 159 | 610.0 | CPM* | Federal Communications Commission, Mass Media Services, P.O. Box 358155, Pittsburgh, PA 15251-5155.
d. License Renewal (Per Station) | 405 & 159 | 210.00 | CJM | Federal Communications Commission, Mass Media Services, P.O. Box 358155, Pittsburgh, PA 15251-5155.
e. Assignment or Transfer:
(1) First Station on Application | 702 & 159 or 704 & 159 | 75.00 | CCM | Federal Communications Commission, Mass Media Services, P.O. Box 358155, Pittsburgh, PA 15251-5155.
(2) Each Additional Station | 702 & 159 or 704 & 159 | 50.00 | CAM* | Federal Communications Commission, Mass Media Services, P.O. Box 358155, Pittsburgh, PA 15251-5155.
f. Extension of Construction Authorization | 701 & 159 | 175.00 | CHM | Federal Communications Commission, Mass Media Services, P.O. Box 358155, Pittsburgh, PA 15251-5155.
g. Special Temporary Authority or Request for Waiver of Prior Construction Authorization | Corres & 159 | 95.00 | CEM | Federal Communications Commission, Mass Media Services, P.O. Box 358155, Pittsburgh, PA 15251-5155.
h. Signal Booster:
(1) Application | 304 & 159 or 331 & 159 | 70.00 | CSB | Federal Communications Commission, Mass Media Services, P.O. Box 358155, Pittsburgh, PA 15251-5155.
(2) Certification of Completion of Construction | 304-A & 159 | 70.00 | CCB | Federal Communications Commission, Mass Media Services, P.O. Box 358155, Pittsburgh, PA 15251-5155.

5. Section 1.1105 is revised to read as follows:

§ 1.1105 Schedule of charges for applications and other filings in the common carrier services.

Action | FCC Form No. | Fee amount | Payment code | Address
1. All Common Carrier Services:
a. Formal Complaints | Corres & 159 | $165.00 | CIZ | Federal Communications Commission, Common Carrier, P.O. Box 358120, Pittsburgh, PA 15251-5120.
b. Communication Assistance for Law Enforcement (CALEA) Petitions | Corres & 159 | 5,000.00 | CLEA | Federal Communications Commission, Common Carrier, P.O. Box 358120, Pittsburgh, PA 15251-5120.
2. Domestic 214 Applications:
a. Domestic Cable Construction | Corres & 159 | 815.00 | CUT | Federal Communications Commission, Common Carrier Domestic Services, P.O. Box 358145, Pittsburgh, PA 15251-5145.
b. Other | Corres & 159 | 815.00 | CUT | Federal Communications Commission, Common Carrier Network Services, P.O. Box 358145, Pittsburgh, PA 15251-5145.
3. Telephone Equipment Registration | 730 & 159 | 210.00 | CJQ | Federal Communications Commission, Common Carrier Network Services P.O. Box 358145, Pittsburgh, PA 15251-5145.
4. Tariff Filings:
a. Tariff Filing Fees (per transmittal or cover letter) | Corres & 159 | 655.00 | CQK | Federal Communications Commission, Common Carrier Tariff Filing, P.O. Box 358150, Pittsburgh, PA 15251-5150.
b. Application for Special Permission Filing (request for waiver of any rule in part 61 of the Commission's Rules) (per request) | Corres & 159 | 655.00 | CQK | Federal Communications Commission, Common Carrier Tariff Filing, P.O. Box 358150, Pittsburgh, PA 15251-5150.
c. Waiver of part 69 Tariff Rules (per request) | Corres & 159 | 655.00 | CQK | Federal Communications Commission, Common Carrier Tariff Filing, P.O. Box 358150, Pittsburgh, PA 15251-5150.
5. Accounting and Audits:
a. Field Audit | Corres & 159 | 83,090.00 | BMA | Federal Communications Commission, Accounting and Audits, P.O. Box 358340 Pittsburgh, PA 15251-5340.
b. Review of Attest Audit | Corres & 159 | 45,355.00 | BLA | Federal Communications Commission, Accounting and Audits, P.O. Box 358340, Pittsburgh, PA 15251-5340.
c. Review of Depreciation Update Study:
(1) Single State | Corres & 159 | 27,595.00 | BKA | Federal Communications Commission, Accounting and Audits, P.O. Box 358140, Pittsburgh, PA 15251-5140.
(2) Each Additional State | Corres & 159 | 910.00 | CVA | Federal Communications Commission, Accounting and Audits, P.O. Box 358140 Pittsburgh, PA 15251-5140.
d. Petition for Waiver (per petition Waiver of Part 69 Accounting Rules & Part 32 Accounting Rules, Part 36 Separation Rules, Part 43 Reporting Requirements Part 64 Allocation of Costs Rules Part 65 Rate of Return & Rate Base Rules | Corres & 159 | 6,220.00 | BEA | Federal Communications Commission, Accounting and Audits, P.O. Box 358140, Pittsburgh, PA 15251-5140.
e. Development and Review of Agreed-upon-Procedures Engagement Audit | Corres & 159 | 45,355.00 | BLA | Federal Communications Commission, Accounting and Audits, P.O. Box 358140 Pittsburgh, PA 15251-5140.

6. Section 1.1106 is revised to read as follows:

§ 1.1106 Schedule of charges for applications and other filings in the cable services.

Action | FCC Form No. | Fee amount | Payment type code | Address
1. Cable Television Services:
a. CARS Construction Permit | 327 & 159 | $210.00 | TIC | Federal Communications Commission, Cable Services Bureau, P.O. Box 358205, Pittsburgh, PA 15215-5205.
b. CARS Modification | 327 & 159 | 210.00 | TIC | Federal Communications Commission, Cable Services Bureau, P.O. Box 358205, Pittsburgh, PA 15215-5205.
c. CARS License Renewal | 327 & 159 | 210.00 | TIC | Federal Communications Commission, Cable Services Bureau, P.O. Box 358205, Pittsburgh, PA 15215-5205.
d. CARS License Agreement | 327 & 159 | 210.00 | TIC | Federal Communications Commission, Cable Services Bureau, P.O. Box 358205, Pittsburgh, PA 15215-5205.
e. CARS Transfer of Control | 327 & 159 | 210.00 | TIC | Federal Communications Commission, Cable Services Bureau, P.O. Box 358205, Pittsburgh, PA 15215-5205.
f. Special Temporary Authorization, | Corres & 159 | 135.00 | TGC | Federal Communications Commission, Cable Services Bureau, P.O. Box 358205, Pittsburgh, PA 15215-5205.
g. Cable Special Relief Petition | Corres & 159 | 1,055.00 | TQC | Federal Communications Commission, Cable Services Bureau, P.O. Box 358205, Pittsburgh, PA 15215-5205.
h. 76.12 Registration Statement 19 | Corres & 159 | 50.00 | TAC | Federal Communications Commission, Cable Services Bureau, P.O. Box 358205, Pittsburgh, PA 15215-5205.
i. Aeronautical Frequency Usage Notification 20 | Corres & 159 | 50.00 | TAC | Federal Communications Commission, Cable Services Bureau, P.O. Box 358205, Pittsburgh, PA 15215-5205.
j. Pole Attachment Complaint | Corres & 159 | 205.00 | TPC | Federal Communications Commission, Cable Services Bureau, P.O. Box 358205, Pittsburgh, PA 15215-5205.

7. Section 1.1107 is revised to read as follows:

§ 1.1107 Schedule of charges for applications and other filings in the international services.

Action | FCC form No. | Fee amount | Payment type code | Address
1. International Fixed Public Radio: (Public & Control Station)
a. Initial Construction Permit (per station) | 407 & 159 | $685.00 | CSN | Federal Communications Commission, International Bureau—Fixed Public Radio, P.O. Box 358160, Pittsburgh, PA 15251-5160.
b. Assignment or Transfer (per Application) | 702 & 159 or 704 & 159 | 685.00 | CSN | Federal Communications Commission, International Bureau—Fixed Public Radio, P.O. Box 358160, Pittsburgh, PA 15251-5160.
c. Renewal (per license) | 405 & 159 | 495.00 | CON | Federal Communications Commission, International Bureau—Fixed Public Radio, P.O. Box 358160, Pittsburgh, PA 15251-5160.
d. Modification (per station) | 403 & 159 | 495.00 | CON | Federal Communications Commission, International Bureau—Fixed Public Radio, P.O. Box 358160, Pittsburgh, PA 15251-5160.
e. Extension of Construction Authorization (per station) | 701 & 159 | 250.00 | CKN | Federal Communications Commission, International Bureau—Fixed Public Radio, P.O. Box 358160, Pittsburgh, PA 15251-5160.
f. Special Temporary Authority or request for Waiver (per request) | Corres & 159 | 250.00 | CKN | Federal Communications Commission, International Bureau—Fixed Public Radio, P.O. Box 358160, Pittsburgh, PA 15251-5160.
2. Section 214 Applications:
a. Overseas Cable Construction | Corres & 159 | 12,175.00 | BIT | Federal Communications Commission, International Bureau—Telecommunications, P.O. Box 358115, Pittsburgh, PA 15251-5115
b. Cable Landing License:
(1) Common Carrier | Corres & 159 | 1,370.00 | CXT | Federal Communications Commission, International Bureau—Telecommunications, P.O. Box 358115, Pittsburgh, PA 15251-5115.
(2) Non-Common Carrier | Corres & 159 | 13,540.00 | BJT | Federal Communications Commission, International Bureau—Telecommunications, P.O. Box 358115, Pittsburgh, PA 15251-5115.
c. All Other International 214 Applications | Corres & 159 | 815.00 | CUT | Federal Communications Commission, International Bureau—Telecommunications, P.O. Box 358115, Pittsburgh, PA 15251-5115.
d. Special Temporary Authority (all services) | Corres & 159 | 815.00 | CUT | Federal Communications Commission, International Bureau—Telecommunications, P.O. Box 358115, Pittsburgh, PA 15251-5115.
e. Assignments or Transfers (all services) | Corres & 159 | 815.00 | CUT | Federal Communications Commission, International Bureau—Telecommunications, P.O. Box 358115, Pittsburgh, PA 15251-5115.
3. Fixed Satellite Transmit/Receive Earth Stations:
a. Initial Application (per station) | 312 & Schedule B & 159 | 2,035.00 | BAX | Federal Communications Commission, International Bureau—Earth Stations P.O. Box 358160, Pittsburgh, PA 15251-5160.
b. Modification of License (per station) | 312 & Schedule B & 159 | 145.00 | CGX | Federal Communications Commission, International Bureau—Earth Stations, P.O. Box 358160, Pittsburgh, PA 15251-5160.
c. Assignment or Transfer:
(1) First Station | 312 & Schedule A & 159 | 405.00 | CNX | Federal Communications Commission, International Bureau—Earth Stations, P.O. Box 358160, Pittsburgh, PA 15251-5160.
(2) Each Additional Station | Attachment to 312 Schedule A & 159 | 135.00 | CFX | Federal Communications Commission, International Bureau—Earth Stations, P.O. Box 358160, Pittsburgh, PA 15251-5160.
d. Renewal of License (per station ) | 405 & 159 | 145.00 | CGX | Federal Communications Commission, International Bureau—Earth Stations, P.O. Box 358160, Pittsburgh, PA 15251-5160.
e. Special Temporary Authority or Waiver of Prior Construction Authorization (per request) | Corres & 159 | 145.00 | CGX | Federal Communications Commission, International Bureau—Earth Stations, P.O. Box 358160, Pittsburgh, PA 15251-5160.
f. Amendment of Pending Application (per station) | 312 & Sched. A or B & 159 | 145.00 | CGX | Federal Communications Commission, International Bureau—Earth Stations, P.O. Box 358160, Pittsburgh, PA 15251-5160.
g. Extension of Construction Permit (per station) | 701 & 159 | 145.00 | CGX | Federal Communications Commission, International Bureau—Earth Stations, P.O. Box 358160, Pittsburgh, PA 15251-5160.
4. Fixed Satelite transmit/Receive Earth Stations, (2 meters or less operating in the 4/6 GHz frequency band):
a. Lead Application | 312 & Schedule B & 159 | 4,510.00 | BDS | Federal Communications Commission, International Bureau—Earth Stations, P.O. Box 358160, Pittsburgh, PA 15251-5160.
b. Routine Application (per station) | 312 & Schedule B & 159 | 50.00 | CAS | Federal Communications Commission, International Bureau—Earth Stations, P.O. Box 358160, Pittsburgh, PA 15251-5160.
c. Modification of License (per station) | 312 & Schedule B & 159 | 145.00 | CGS | Federal Communications Commission, International Bureau—Earth Stations, P.O. Box 358160, Pittsburgh, PA 15251-5160.
d. Assignment or Transfer:
(1) First Station | 312 & Schedule A & 159 | 405.00 | CNS | Federal Communications Commission, International Bureau—Earth Stations, P.O. Box 358160, Pittsburgh, PA 15251-5160.
(2) Each Additional Station | Attachment to 312 & Schedule A & 159 | 50.00 | CAS | Federal Communications Commission, International Bureau—Earth Stations, P.O. Box 358160, Pittsburgh, PA 15251-5160.
e. Renewal of License (per station) | 405 & 159 | 145.00 | CGS | Federal Communications Commission, International Bureau—Earth Stations, P.O. Box 358160, Pittsburgh, PA 15251-5160.
f. Special Temporary Authority or Waiver of Prior Construction Authorization (per request) | Corres & 159 | 145.00 | CGS | Federal Communications Commission, International Bureau—Earth Stations, P.O. Box 358160, Pittsburgh, PA 15251-5160.
g. Amendment of Pending Application (per station) | 312 & Sched. A & B & 159 | 145.00 | CGS | Federal Communications Commission, International Bureau—Earth Stations, P.O. Box 358160, Pittsburgh, PA 15251-5160.
h. Extension of Construction Permit (per station) | 701 & 159 | 145.00 | CGS | Federal Communications Commission, International Bureau—Earth Stations, P.O. Box 358160, Pittsburgh, PA 15251-5160.
5. Receive Only Earth Stations:
a. Initial Applications for Registration or License (per station) | 312 & Schedule B & 159 | 310.00 | CMO | Federal Communications Commission, International Bureau—Earth Stations, P.O. Box 358160, Pittsburgh, PA 15251-5160.
b. Modification of License or Registration (per station) | 312 & Schedule B & 159 | 145.00 | CGO | Federal Communications Commission, International Bureau—Earth Stations, P.O. Box 358160, Pittsburgh, PA 15251-5160.
c. Assignment or Transfer:
(1) First Station | 312 & Schedule A & 159 | 405.00 | CNO | Federal Communications Commission, International Bureau—Earth Stations, P.O. Box 358160, Pittsburgh, PA 15251-5160.
(2) Each Additional Station | Attachment to 312 Schedule A & 159 | 135.00 | CFO | Federal Communications Commission, International Bureau—Earth Stations, P.O. Box 358160, Pittsburgh, PA 15251-5160.
d. Renewal of License (per station) | 405 & 159 | 145.00 | CGO | Federal Communications Commission, International Bureau—Earth Stations, P.O. Box 358160, Pittsburgh, PA 15251-5160.
e. Amendment of Pending Application (per station) | 312 & Sched. A or B & 159 | 145.00 | CGO | Federal Communications Commission, International Bureau—Earth Stations, P.O. Box 358160, Pittsburgh, PA 15251-5160.
f. Extension of Construction Permit Application (per station) | 701 & 159 | 145.00 | CGO | Federal Communications Commission, International Bureau—Earth Stations, P.O. Box 358160, Pittsburgh, PA 15251-5160.
g. Waivers (per request) | Corres & 159 | 145.00 | CGO | Federal Communications Commission, International Bureau—Earth Stations, P.O. Box 358160, Pittsburgh, PA 15251-5160.
6. Fixed Satelite Very Small Aperture Terminal (AVSAT) System:
a. Initial Application (per station) | 312 & Schedule B & 159 | 7,510.00 | BGV | Federal Communications Commission, International Bureau—Earth Stations, P.O. Box 358160, Pittsburgh, PA 15251-5160.
b. Modification of License(per station) | 312 & Schedule B & 159 | 145.00 | CGV | Federal Communications Commission, International Bureau—Earth Stations, P.O. Box 358160, Pittsburgh, PA 15251-5160.
c. Assignment or Transfer of System | 312 & Schedule A & 159 | 2,010.00 | CZS | Federal Communications Commission, International Bureau—Earth Stations, P.O. Box 358160, Pittsburgh, PA 15251-5160.
d. Renewal of License (per system) | 405 & 159 | 145.00 | CGV | Federal Communications Commission, International Bureau—Earth Stations, P.O. Box 358160, Pittsburgh, PA 15251-5160.
e. Special Temporary Authority or Waiver of Prior Construction Authorization (per request) | Corres & 159 | 145.00 | CGV | Federal Communications Commission, International Bureau—Earth Stations, P.O. Box 358160, Pittsburgh, PA 15251-5160.
f. Amendment of Pending Application (per system) | 312 & Sched. A or B & 159 | 145.00 | CGV | Federal Communications Commission, International Bureau—Earth Stations, P.O. Box 358160, Pittsburgh, PA 15251-5160.
g. Extension of Construction Permit (per system) | 701 & 159 | 145.00 | CGV | Federal Communications Commission, International Bureau—Earth Stations, P.O. Box 358160, Pittsburgh, PA 15251-5160.
7. Mobile Satellite Earth Stations:
a. Initial Application of Blanket Authorization | 312 & Schedule B & 159 | 7,510.00 | BGB | Federal Communications Commission, International Bureau—Earth Stations, P.O. Box 358160, Pittsburgh, PA 15251-5160.
b. Initial Application for Individual Earth Station | 312 & Schedule B & 159 | 1,805.00 | CYB | Federal Communications Commission, International Bureau—Earth Stations, P.O. Box 358160, Pittsburgh, PA 15251-5160.
c. Modification of License (per system) | 312 & Schedule B & 159 | 145.00 | CGB | Federal Communications Commission, International Bureau—Earth Stations, P.O. Box 358160, Pittsburgh, PA 15251-5160.
d. Assignment or Transfer (per system) | 312 & Schedule A & 159 | 2,010.00 | CZB | Federal Communications Commission, International Bureau—Earth Stations, P.O. Box 358160, Pittsburgh, PA 15251-5160.
e. Renewal of License (per system) | 405 & 159 | 145.00 | CGB | Federal Communications Commission, International Bureau—Earth Stations, P.O. Box 358160, Pittsburgh, PA 15251-5160.
f. Special Temporary Authority of Waiver of Prior Construction Authorization (per request) | Corres & 159 | 145.00 | CGB | Federal Communications Commission, International Bureau—Earth Stations, P.O. Box 358160, Pittsburgh, PA 15251-5160
g. Amendment of Pending Application (per system) | 312 & Sched. A or B & 159 | 145.00 | CGB | Federal Communications Commission, International Bureau—Earth Stations, P.O. Box 358160, Pittsburgh, PA 15251-5160.
h. Extension of Construction Permit (per system) | 701 & 159 | 145.00 | CGB | Federal Communications Commission, International Bureau—Earth Stations, P.O. Box 358160, Pittsburgh, PA 15251-5160.
8. Radio Determination Satellite Earth Station:
a. Initial Application of Blanket Authorization | 312 & Schedule B & 159 | 7,510.00 | BGH | Federal Communications Commission, International Bureau—Earth Stations, P.O. Box 358160, Pittsburgh, PA 15251-5160.
b. Initial Application for Individual Earth Station | 312 & Schedule B & 159 | 1,805.00 | CYH | Federal Communications Commission, International Bureau—Earth Stations, P.O. Box 358160, Pittsburg, PA 15251-5160.
c. Modification of License (per system) | 312 & Schedule B & 159 | 145.00 | CGH | Federal Communications Commission, International Bureau—Earth Stations, P.O. Box 358160, Pittsburgh, PA 15251-5160.
d. Assignments or Transfer (per system) | 312 & Schedule A & 159 | 2,010.00 | CZH | Federal Communications Commission, International Bureau—Earth Stations, P.O. Box 358160, Pittsburgh, PA 15251-5160.
e. Renewal of License (per system) | 405 & 159 | 145.00 | CGH | Federal Communications Commission, International Bureau—Earth Stations, P.O. Box 358160, Pittsburgh, PA 15251-5160.
f. Special Temporary Authority or Waiver of Prior Construction Authorization (per request) | Corres & 159 | 145.00 | CGH | Federal Communications Commission, International Bureau—Earth Stations, P.O. Box 358160, Pittsburgh, PA 15251-5160.
g. Amendment of Pending Application (per system) | 312 & Sched. A or B & 159 | 145.00 | CGH | Federal Communications Commission, International Bureau—Earth Stations, P.O. Box 358160, Pittsburgh, PA 15251-5160.
h. Extension of Construction Permit (per system) | 701 & 159 | 145.00 | CGH | Federal Communications Commission, International Bureau—Earth Stations, P.O. Box 358160, Pittsburgh, PA 15251-5160.
9. Space Stations (GSO):
a. Appplication for Authority to Launch & Operate:
(1) Initial Application | 312 & 159 | 93,375.00 | BNY | Federal Communications Commission, International Bureau—Satellites, P.O. Box 358210, Pittsburgh, PA 15251-5210.
(2) Replacement Satellite | 312 & 159 | 93,375.00 | BNY | Federal Communications Commission, International Bureau—Satellites, P.O. Box 358210, Pittsburgh, PA 15251-5210.
b. Assignment or Transfer (per satellite) | 312 & Schedule A & 159 | 6,670.00 | BFY | Federal Communications Commission, International Bureau—Satellites, P.O. Box 358210, Pittsburgh, PA 15251-5210.
c. Modification | 312 & 159 | 6,670.00 | BFY | Federal Communications Commission, International Bureau—Satellites, P.O. Box 358210, Pittsburgh, PA 15251-5210.
d. Special Temporary Authority (per request) | Corres & 159 | 670.00 | CRY | Federal Communications Commission, International Bureau—Satellites, P.O. Box 358210, Pittsburgh, PA 15251-5210.
e. Amendment of Pending Application (per request) | 312 & 159 | 1,335.00 | CWY | Federal Communications Commission, International Bureau—Satellites, P.O. Box 358210, Pittsburgh, PA 15251-5210.
f. Extension of Launch Authority | Corres & 159 | 670.00 | CRY | Federal Communications Commission, International Bureau—Satellites, P.O. Box 358210, Pittsburgh, PA 15251-5210.
10. Space Stations (NGSO):
a. Application for Authority to Launch and Operate (per system of technically identical satellites) | 312 & 159 | 321,570.00 | CLW | Federal Communications Commission, International Bureau—Satellites, P.O. Box 358210, Pittsburgh, PA 15251-5210.
b. Assignment or Transfer (per request) | 312 & 159 | 9,195.00 | CZW | Federal Communications Commission, International Bureau—Satellites, P.O. Box 358210, Pittsburgh, PA 15251-5210.
c. Modification (per request) | 312 & 159 | 22,970.00 | CGW | Federal Communications Commission, International Bureau—Satellites P.O. Box 358210, Pittsburgh, PA 15251-5210.
d. Special Temporary Authority (per request) | Corres & 159 | 2,305.00 | CXW | Federal Communications Commission, International Bureau—Satellites, P.O. Box 358210, Pittsburgh, PA 15251-5210
e. Amendment of Pending Application (per request) | 312 & 159 | 4,600.00 | CAW | Federal Communications Commission, International Bureau—Satellites, P.O. Box 358210, Pittsburgh, PA 15251-5210.
f. Extension of Launch Authority | Corres & 159 | 2,305.00 | CXW | Federal Communications Commission, International Bureau—Satellites, P.O. Box 358210, Pittsburgh, PA 15251-5210.
11. Direct Broadcast Satellites:
a. Authorization to Construct or Major Modification (per request) | Corres & 159 | 2,710.00 | MTD | Federal Communications Commission, International Bureau—Satellites, P.O. Box 358210, Pittsburgh, PA 15251-5210.
b. Construction Permit and Launch authority (per request) | Corres & 159 | 26,295.00 | MXD | Federal Communications Commission, International Bureau—Satellites, P.O. Box 358210, Pittsburgh, PA 15251-5210.
c. License to Operate (per request) | Corres & 159 | 755.00 | MPD | Federal Communications Commission, International Bureau—Satellites, P.O. Box 358210, Pittsburgh, PA 15251-5210.
d. Special Temporary Authority (per request) | Corres & 159 | 135.00 | MGD | Federal Communications Commission, International Bureau—Satellites, P.O. Box 358210, Pittsburg, PA 15251-5210.
e. Hearing (New and Major/Minor change, comparative construction permit hearings; comparative license renewal hearing) | Corres & 159 | 9,020.00 | MWD | Federal Communications Commission, International Bureau, P.O. Box 358270, Pittsburgh, PA 15251-5170.
12. International Broadcast Stations:
a. New Station & Facilities Change Construction Permit (per applications) | 309 & 159 | 2,275.00 | MSN | Federal Communications Commission, International Bureau, P.O. Box 358175, Pittsburgh, PA 15251-5175.
b. New License (per application) | 310 & 159 | 515.00 | MNN | Federal Communications Commission, International Bureau, P.O. Box 358175, Pittsburgh, PA 15251-5175.
c. License Renewal (per application) | 311 & 159 | 130.00 | MFN | Federal Communications Commission, International Bureau, P.O. Box 358175, Pittsburgh, PA 15251-5175.
d. License Assignment or Transfer of Control (per stationlicense) | 314 & 159 or 315 & 159 or 316 & 159 | 85.00 | MCN | Federal Communications Commission, International Bureau, P.O. Box 358175, Pittsburgh, PA 15251-5175.
e. Frequency Assignment & Coordination (per frequency hour) | Corres & 159 | 50.00 | MAN | Federal Communications Commission International Bureau, P.O. Box 358175, Pittsburgh, PA 15251-5175.
f. Special Temporary Authorization (per application) | Corres & 159 | 135.00 | MGN | Federal Communications Commission, International Bureau, P.O. Box 358175, Pittsburgh, PA 15251-5175.
13. Permit to Deliver Programs to Foreign Broadcast Stations (per application):
a. Commercial TV Stations | 308 & 159 | 75.00 | MBT | Federal Communications Commission, International Bureau, P.O. Box 358175, Pittsburgh, PA 15251-5175.
b. Commercial AM or FM Radio Stations | 308 & 159 | 75.00 | MBR | Federal Communications Commission, International Bureau, P.O. Box 358175, Pittsburgh, PA 15251-5175.
14. Recognized Private Operating Status (per application) | Corres & 159 | 815.00 | CUG | Federal Communications Commission, International Bureau, P.O. Box 358115, Pittsburgh, PA 15251-5115.

8. Section 1.1108 is revised to read as follows:

§ 1.1108 Attachment of charges.

The charges required to accompany a request for the Commission regulatory services listed in §§ 1.1102 through 1.1107 of this subpart will not be refundable to the applicant irrespective of the Commission's disposition of that request. Return or refund of charges will be made in certain limited instances as set out at § 1.1113 of this subpart.

9. Section 1.1110 is amended by revising paragraphs (b) and (f) to read as follows:

§ 1.1110 Form of payment.

* * * * *

(b) Applicants are required to submit one payment instrument (check, bank draft or money order) and FCC Form 159 with each application or filing. Multiple payment instruments for a single application or filing are not permitted. Except that a separate Fee Form (FCC Form 159) will not be required once the information requirements of that form (the Fee Code, fee amount, and total fee remitted) are incorporated into the underlying application form.

* * * * *

(f) The Commission will furnish a stamped receipt of an application only upon request that complies with the following instructions. In order to obtain a stamped receipt for an application (or other filing), the application package must include a copy of the first page of the application, clearly marked “copy”, submitted expressly for the purpose of serving as a receipt of the filing. The copy should be the top document in the package. The copy will be date-stamped immediately and provided to the bearer of the submission, if hand delivered. For submissions by mail, the receipt copy will be provided through return mail if the filer has attached to the receipt copy a stamped self-addressed envelope of sufficient size to contain the date stamped copy of the application. No remittance receipt copies will be furnished.

10. Section 1.1111 is amended by revising the introductory text of paragraph (a) and revising paragraphs (a)(2) and (a)(4) to read as follows:

§ 1.1111 Filing locations.

(a) Except as noted in this section, applications and other filings, with attached fees and FCC Form 159, must be submitted to the locations and addresses set forth in §§ 1.1102 through 1.1107.

* * * * *

(2) Bills for collection will be paid at the Commission's lockbox bank at the address of the appropriate service as established in §§ 1.1102 through 1.1107, as set forth on the bill sent by the Commission. Payments must be accompanied by the bill sent by the Commission. Payments must be accompanied by the bill and a FCC Form 159 to ensure proper credit.

* * * * *

(4) Applicants claiming an exemption from a fee requirement for an application or other filing under 47 U.S.C. 158(d)(1) or § 1.1114 of this subpart shall file their applications in the appropriate location as set forth in the rules for the service for which they are applying, except that request for waiver accompanied by a tentative fee payment should be filed at the Commission's lockbox bank at the address for the appropriate service set forth in §§ 1.1102 through 1.1107.

* * * * *

11. Section 1.1113 is amended by revising the introductory text of paragraph (a) and revising paragraph (b) to read as follows:

§ 1.1113 Return or refund of charges.

(a) All refunds will be issued to the payer named in the appropriate block of the FCC Form 159. The full amount of any fee submitted will be returned or refunded, as appropriate, under the authority granted at § 0.231.

(b) Comparative hearings are no longer required.

12. Section 1.1114 is amended by revising the introductory text to read as follows:

§ 1.1114 General exemptions to charges.

No fee established in §§ 1.1102 through 1.1106 of this subpart, unless otherwise Qualified herein, shall be required for:

* * * * *

13. Section 1.1115 is amended by revising the introductory text of paragraph (a) to read as follows:

§ 1.1115 Adjustments to charges.

(a) The Schedule of Charges established by Sections 1.1102 through 1.1107 of this subpart shall be adjusted by the Commission on October 1, 1999 and every two years thereafter.

* * * * *

14. Section 1.1117 is amended by revising paragraphs (c) and (e) to read as follows:

§ 1.1117 Petitions and applications for review.

* * * * *

(c) Petitions for waivers, deferrals, fee determinations reconsideration and applications. For review will be acted upon by the Managing Director. Petitions and applications for review submitted with a fee must be submitted to the Commission's lockbox bank at the address for the appropriate service set forth in §§ 1.1102 through 1.1107. If no fee payment is required, and the matter is within the scope of the fee rules in this subpart, the petition or application for review should be filed with the Commission's Secretary and clearly marked to the attention of the Managing Director. Requests for deferral of a fee payment for financial hardship must be accompanied by supporting documentation.

* * * * *

(e) Applicants seeking waivers must submit the request for waiver with the application or filing, required fee and FCC Form 159. Waiver requests that do not include these materials will be dismissed in accordance with § 1.1108 of this subpart. Submitted fees will be returned if a waiver is granted. The Commission will not be responsible for delays in acting upon these requests.

15. Section 1.1118 is amended by revising paragraph (a) and the introductory text of paragraph (b) to read as follows:

§ 1.1118 Error claims.

(a) Applications who wish to challenge a staff determination of an insufficient fee may do so in writing. These claims should be addressed to the same location as the original submission marked “Attention Financial Operations.”

(b) Actions taken by Financial Operations staff are subject to the reconsideration and review provisions of §§ 1.106 and 1.115 of this part, EXCEPT THAT reconsideration and/or review will only be available where the applicant has made the full and proper payment of the underlying fee as required by this subpart.

* * * * *

16. Section 1.1119 is amended by revising paragraph (a) to read as follows:

§ 1.1119 Billing procedures.

(a) The fees required for the International Telecommunications Settlements (§ 1,1103 of this subpart) and Common Carrier Field Audits (§ 1.1105 of this subpart) should not be paid with the filing or submission of the request. The fees required for requests for Special Temporary Authority (see generally §§ 1.1102, 1.1104, 1.1106, & 1.1107 of this subpart).

* * * * *

[FR Doc. 00-20517 Filed 8-11-00; 8:45 am]

BILLING CODE 6712-01-P